DEPARTMENT OF LABOR

Employment and Training Administration

[TA-W-40,119]

Tennford Weaving, Sanford, Maine; Notice of Negative Determination Regarding Application for Reconsideration

By application of December 31, 2001, the petitioners requested administrative reconsideration of the Department's negative determination regarding eligibility for workers and former workers of the subject firm to apply for Trade Adjustment Assistance (TAA). The denial notice applicable to workers of Tennford Weaving, Sanford, Maine, was issued on December 11, 2001, and was published in the Federal Register on December 26, 2001 (66 FR 66426).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative TAA determination issued by the Department on December 11, 2001 was based on the fact that the subject plant's assets were sold to Alkahn Labels, Inc., New York, New York and that Alkahn Labels, Inc. did not import woven labels during the relevant period.

The request for administrative reconsideration indicates that Tennford Weaving, Sanford, Maine sold their assets (machinery) to Alkahn Labels, Inc. The new owner of the equipment then shipped the machinery to Weston, West Virginia where some of the machinery was reconfigured for use overseas in Hong Kong.

Declines in subject plant employment is related to the subject plant's machinery being sold on August 1, 2001 to Alkahn Labels, Inc. The new owner consolidated their manufacturing operations by transferring the subject plant machinery to factories located in West Virginia, South Carolina and Hong Kong. The investigation further revealed that the subject plant and Alkahn Labels, Inc. did not import woven labels during the relevant period.

The shift of plant machinery to a foreign source does not meet the “contributed importantly” group eligibility requirement of section 222(3) of the Trade Act of 1974, as amended. To meet the eligibility requirements of criterion (3) the increases of imports of articles like or directly competitive with articles produced by the subject firm or appropriate subdivision have to contribute importantly to the separations and to the absolute decline in sales or production. This is not the case for the workers of the subject firm.

The petitioners in their request for administrative reconsideration also attached shipping invoices to their request.

An examination of the attached shipping invoices revealed that Sher Woven Label, a Division of Alkahn Labels, Inc. primarily shipped products to foreign sources. One invoice reflects a domestic to domestic shipment. Exports of woven labels by the company do not meet the increasing imports eligibility requirements of section 222 of the Trade Act, as amended.

Conclusion

After review of the application and investigative findings, I conclude that there has been no error or misinterpretation of the law or of the facts which would justify reconsideration of the Department of Labor's prior decision. Accordingly, the application is denied.

Signed at Washington, DC, this 11th day of March, 2002.
Edward A. Tomchick,
Director, Division of Trade Adjustment Assistance.

[FR Doc. 02-9347 Filed 4-16-02; 8:45 am]

BILLING CODE 4510-30-M